DEPARTMENT OF THE INTERIOR

National Park Service

[NPS-WASO-NRSS-EQD-SSB-2107-23782; PPWONRADE3, PPMRSNR1Y.NM000; OMB Control Number 1024-0216]

Agency Information Collection Activities: NPS Visitor Survey Card

AGENCY: National Park Service, Interior.

ACTION: Notice; request for comments.

SUMMARY: We (National Park Service) are asking the Office of Management and Budget (OMB) to approve the Information Collection Request (ICR) described below. As required by the Paperwork Reduction Act of 1995 and as a part of our continuing efforts to reduce paperwork and respondent burden, we invite the general public and other federal agencies to comment on this ICR. We may not conduct or sponsor, and a person is not required to respond to, a collection of information unless it displays a currently valid OMB Control Number.

DATES: To ensure that we are able to consider your comments on this ICR, we must receive them by August 28, 2017.

ADDRESSES: Please send your comments on the ICR to the Office of Management and Budget (OMB) Office of Information and Regulatory Affairs, Attention: Desk Officer for the Department of the Interior, to OIRA_Submission@omb.eop.gov (email) or 202-395-5806 (fax); and identify your submission as “1024-0216”. Please also send a copy of your comments to Phadrea Ponds, Information Collection Coordinator, National Park Service, 1201 Oakridge Drive, Fort Collins, CO 80525 (mail); or phadrea_ponds@nps.gov (email). Please include “1024-0216” in the subject line.

FOR FURTHER INFORMATION CONTACT: Bret Meldrum, Chief Social Science Program, at (970) 267-7295 or bret_meldrum@nps.gov (email). You may also access this ICR at www.reginfo.gov.

SUPPLEMENTARY INFORMATION:

I. Abstract

The National Park Service (NPS) is requesting to renew a previously approved collection (OMB Control Number: 1024-0216 which is required to provide an understanding of visitor satisfaction and an understanding of the park and agency's performance related to The Government Performance and Results Act (GPRA) NPS Goals IIa1 (visitor satisfaction) and IIb1 (visitor understanding and appreciation). The Visitor Survey Card (VSC) was developed to measure each park unit's performance related to these two goals. The Visitor Survey Card contains eight questions regarding visitor evaluations of service and facility quality, awareness of park significance, and basic demographic information. Each year, all NPS units nationwide (approximately 332) are required to collect data using the Visitor Survey Card. Data and information collected through the VSC are used to measure and report performance related to a broad list of GPRA Goals and to provide feedback used by Superintendents and other managers to develop performance improvement plans.

II. Data

OMB Control Number: 1024-0216.

Title: National Park Service Visitor Survey Card.

Service Form Number(s): None.

Type of Request: Extension of a currently approved collection.

Description of Respondents: Park Visitors; Members of the general public.

Respondent's Obligation: Voluntary.

Frequency of Collection: One-time.

Activity | Annual number of respondents | Number of responses each * | Completion time per response * (minute) | Annual burden hours *
Initial Contact | 130,000 | 1 | 1 | 2,167
Completed VSC | 65,000 | 1 | 3 | 3,250
Non-response Survey | 6,500 | 1 | 1 | 108
Total |  |  |  | 5,525
* Rounded.

Estimated Annual Non-hour Burden Cost: None.

III. Comments

On January 10, 2017, we published a Federal Register notice (82 FR 3024) announcing that we would submit this ICR to OMB for approval. Public comments were solicited for 60 days ending March 13, 2017. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

A Federal agency may not conduct or sponsor and a person is not required to respond to a collection of information unless it displays a currently valid OMB control number. Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

IV. Authorities

The authorities for this action are: The Government Performance and Results Modernization Act of 2010 (GPRA) (31 U.S.C. 1101 § 1115), the National Park Service Protection Interpretation and research in System (54 U.S.C. 100701); National Park Service Protection Research Mandate (54 U.S.C. 100702); National Environmental Policy Act of as amended in 1982 (Sec 102 [42 U.S.C. 4332A]).

Tim Goddard,
Information Collection Clearance Officer, National Park Service.

[FR Doc. 2017-15785 Filed 7-26-17; 8:45 am]

BILLING CODE 4310-EH-P